DEPARTMENT OF ENERGY

Federal Energy Regulatory Commission

[Docket No. CP02-417-002]

Colorado Interstate Gas Company; Notice of Compliance Filing

May 19, 2003.

Take notice that on May 12, 2003, Colorado Interstate Gas Company (CIG) tendered for filing as part of its FERC Gas Tariff, First Revised Volume No. 1, the following tariff sheets, with an effective date of March 1, 2003:

Second Revised Sheet No. 182

Ninth Revised Sheet No. 279

Second Revised Sheet No. 334

Fourth Revised Sheet No. 359

CIG states that these tariff sheets are being filed in compliance with the Commission's April 25, 2003, order to remove several gathering references found throughout its tariff.

Any person desiring to protest said filing should file a protest with the Federal Energy Regulatory Commission, 888 First Street, NE., Washington, DC 20426, in accordance with Section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 27, 2003.

Magalie R. Salas,
Secretary.

[FR Doc. 03-12946 Filed 5-22-03; 8:45 am]

BILLING CODE 6717-01-P